DEPARTMENT OF THE TREASURY

Fiscal Service

Treasury Order Establishing the Bureau of the Fiscal Service

AGENCY: Bureau of the Fiscal Service, Fiscal Service, Department of the Treasury.

ACTION: Notice.

SUMMARY: The Department of the Treasury is publishing Treasury Order 136-01 that formally establishes within the Department the Bureau of the Fiscal Service, consolidating the Financial Management Service (“FMS”) and the Bureau of the Public Debt (“BPD”).

DATES: Treasury Order 136-01 was effective October 7, 2012.

FOR FURTHER INFORMATION CONTACT: Marc Seldin, Senior Counsel, 202-874-6863 or marc.seldin@fms.treas.gov; or David Copenhaver, Senior Attorney, at 304-480-6665 or david.copenhaver@bpd.treas.gov.

SUPPLEMENTARY INFORMATION: On October 7, 2012, the Secretary of the Treasury issued Treasury Order 136-01. The Order consolidated and redesignated the bureaus formerly known as the Bureau of the Public Debt and the Financial Management Service as the Bureau of the Fiscal Service. The Order delegates to the Commissioner, Bureau of the Fiscal Service, the authority that was previously delegated to the Commissioner of the Public Debt and the Commissioner, Financial Management Service. The Order also provides for the continuation of all administrative actions completed by the Bureau of the Public Debt and the Financial Management Service on or before October 7, 2012. Treasury Order 136-01 ensures that the Commissioner, Bureau of the Fiscal Service, may exercise the functions and carry out the duties of the Secretary with respect to applicable Treasury authorities.

The text of the Order reads as follows.

Dated: May 14, 2013.
Richard L. Gregg,
Fiscal Assistant Secretary.

Treasury Order 136-01

Date: October 7, 2012

Subject: Bureau of the Fiscal Service

1. Establishment. By virtue of the authority vested in the Secretary of the Treasury (“Secretary”) under 31 U.S.C. section 321(b), the Bureau of the Fiscal Service is established within the Department.

2. Designation of the Bureau of the Fiscal Service. The Bureaus formerly known as the Bureau of the Public Debt (“BPD”) and the Financial Management Service (“FMS”) (previously known as the Bureau of Government Financial Operations) shall be consolidated and redesignated as the Bureau of the Fiscal Service (“BFS”). The head of the BFS is the Commissioner, who is appointed by the Secretary, and who shall perform duties as assigned by the Secretary or his designee. The Commissioner, BFS, shall report to the Fiscal Assistant Secretary.

3. Authorities, Functions and Duties of the Commissioner, BFS. The Commissioner, BFS, shall have all authorities, functions, and duties delegated to the Commissioner of the Public Debt, and the Commissioner, FMS, in effect on October 7, 2012, and any other authorities, functions, and duties assigned by the Secretary or his designee. The Commissioner, BFS, shall possess the full authority to administer the affairs of and to perform the functions and duties of BFS, including, without limitation, all management and administrative authorities and duties similarly granted and assigned to Bureau Heads or Heads of Bureaus in Treasury Orders and Treasury Directives.

4. Administrative Actions and Regulations.

a. All administrative actions of BPD and FMS, including but not limited to orders, determinations, rules, regulations, personnel actions, agreements, contracts, certificates, adopted or executed in connection with the administration and implementation of the authorities, functions, and duties specified in paragraph 3 that are in effect on October 7, 2012 shall continue in effect in accordance with their terms.

b. The terms “Commissioner of the Public Debt, Commissioner, FMS,” and similar references wherever used in completed administrative actions issued, adopted or executed in connection with the administration and implementation of the authorities, functions, and duties specified in paragraph 3 on or before October 7, 2012 shall mean the Commissioner, BFS. All references to officers or employees of BPD or FMS in completed administrative actions issued, adopted or executed in connection with the administration and implementation of the authorities, functions, and duties specified in paragraph 3 on or before October 7, 2012 shall apply to officers or employees of BFS.

c. Regulations for the purposes of carrying out the authorities, functions, and duties delegated to the Commissioner, BFS, may be issued by that Commissioner with the approval of the Secretary or his designee.

5. Redelegation. The Commissioner, BFS, may delegate any of the authority vested under this Order, unless otherwise specified by the Secretary or his designee. All delegations of authority in existence on October 7, 2012 related to the administration and implementation of the authorities, functions, and duties specified in paragraph 3 to positions established within BFS shall remain in effect in accordance with their terms.

6. Ratification. Any action heretofore taken that is consistent with this Order is hereby affirmed and ratified.

7. Authority of Inspectors General. The provisions of this Order shall not be construed to interfere with or impede the authorities or independence of the Department's inspectors general.

8. Cancellation. Treasury Order 145-06, “Designation as Financial Management Service,” dated October 10, 1984, is superseded.

9. Office of Primary Interest. Bureau of the Fiscal Service

Timothy Geithner,

Secretary of the Treasury.

[FR Doc. 2013-12056 Filed 5-23-13; 8:45 am]

BILLING CODE 4810-35-P